FEDERAL COMMUNICATIONS COMMISSION

47 CFR Part 73

[DA 00-2210, MM Docket No. 00-179, RM-9947]

Digital Television Broadcast Service; Arkadelphia, AR

AGENCY: Federal Communications Commission.

ACTION: Proposed rule.

SUMMARY: The Commission requests comments on a petition filed by the Arkansas Educational Television Commission (“AETC”), licensee of noncommercial educational Station KETG(TV), NTSC Channel *9, Arkadelphia, Arkansas. AETC requests the substitution of DTV Channel *13 for Station KETG(TV)'s assigned DTV Channel *46 at Arkadelphia. DTV Channel *13 can be allotted to Arkadelphia, Arkansas, in compliance with the principle community coverage requirements of section 73.625(a) at reference coordinates (33-54-26 N. and 93-06-46 W.). As requested, we propose to allot DTV Channel *13 to Arkadelphia with a power of 7.3 and a height above average terrain (HAAT) of 320.9 meters.

DATES: Comments must be filed on or before November 24, 2000, and reply comments on or before December 11, 2000.

ADDRESSES: Federal Communications Commission, 445 12th Street, S.W., Room TW-A325, Washington, DC 20554. In addition to filing comments with the FCC, interested parties should serve the petitioner, or its counsel or consultant, as follows: Todd D. Gray, Dow, Lohnes & Albertson, PLLC, 1200 New Hampshire Avenue, NW, Suite 800, Washington, DC 20036 (counsel for Arkansas Educational Television Commission).

FOR FURTHER INFORMATION CONTACT: Pam Blumenthal, Mass Media Bureau, (202) 418-1600.

SUPPLEMENTARY INFORMATION: This is a synopsis of the Commission's Notice of Proposed Rule Making, MM Docket No. 00-179, adopted September 29, 2000, and released October 2, 2000. The full text of this Commission decision is available for inspection and copying during normal business hours in the FCC Reference Center 445 12th Street, S.W., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-25527 Filed 10-4-00; 8:45 am]

BILLING CODE 6712-01-P